OFFICE OF THE UNITED STATES TRADE REPRESENTATIVE

Membership of the Performance Review Board (PRB)

AGENCY: Office of the United States Trade Representative.

ACTION: Notice.

SUMMARY: The following staff members have been appointed to serve on the Performance Review Board:

Performance Review Board (PRB)
Chair | Fred Ames.
Alternate Chair | Florie Liser.
Member | David Walters.
Executive Secretary | Lorraine Green.

DATES: Effective Date: September 26, 2006.

FOR FURTHER INFORMATION CONTACT: Questions regarding this submission should be directed to Lorraine Green, Deputy Assistant U.S. Trade Representative for Administration and Director of Human Resources (202) 395-7360.

Fred Ames,
Assistant U.S. Trade Representative for Administration.

[FR Doc. E6-16133 Filed 9-29-06; 8:45 am]

BILLING CODE 3190-W6-P